DEPARTMENT OF COMMERCE

National Oceanic and Atmospheric Administration

RIN 0648-XZ22

Endangered Species; File No. 13599-01

AGENCY: National Marine Fisheries Service (NMFS), National Oceanic and Atmospheric Administration (NOAA), Commerce.

ACTION: Notice; issuance of permit modification.

SUMMARY: Notice is hereby given that National Ocean Service Marine Forensic Lab (NOS Lab, Julie Carter, Principal Investigator), 219 Fort Johnson Road, Charleston, SC 29412, has been issued a modification to scientific research Permit No. 13599.

ADDRESSES: The modification and related documents are available for review upon written request or by appointment in the following office(s):

Permits, Conservation and Education Division, Office of Protected Resources, NMFS, 1315 East-West Highway, Room 13705, Silver Spring, MD 20910; phone (301) 713-2289; fax (301) 713-0376; and

Southeast Region, NMFS, 263 13th Ave South, St. Petersburg, FL 33701; phone (727) 824-5312; fax (727) 824-5309.

FOR FURTHER INFORMATION CONTACT: Jennifer Skidmore or Colette Cairns, (301) 713-2289.

SUPPLEMENTARY INFORMATION: On May 25, 2010, notice was published in the Federal Register (75 FR 29316) that a modification of Permit No. 13599, issued December 16, 2008 (73 FR 78724), had been requested by the above-named permit holder. The requested modification has been granted under the authority of the Endangered Species Act of 1973, as amended (ESA; 16 U.S.C. 1531 et seq.) and the regulations governing the taking, importing, and exporting of endangered and threatened species (50 CFR 222-226).

This permit amendment adds those ESA-listed NMFS species not previously included in the previous permit. No live animal takes or incidental harassment of animals would is authorized under this permit. Samples will be archived at the NOS Lab and used to support law enforcement actions, research studies (primarily genetics), and outreach education.

Issuance of this modification, as required by the ESA was based on a finding that such permit (1) was applied for in good faith, (2) will not operate to the disadvantage of such endangered or threatened species, and (3) is consistent with the purposes and policies set forth in section 2 of the ESA.

Dated: September 24, 2010.
P. Michael Payne,
Chief, Permits, Conservation and Education Division, Office of Protected Resources, National Marine Fisheries Service.

[FR Doc. 2010-24694 Filed 9-30-10; 8:45 am]

BILLING CODE 3510-22-S